DEPARTMENT OF DEFENSE

Office of the Secretary

32 CFR Part 48

[Docket ID: DOD-2018-OS-0058]

RIN 0790-AK31

Retired Serviceman's Family Protection Plan (RSFPP)

AGENCY: Under Secretary of Defense (Personnel and Readiness), DoD.

ACTION: Final rule.

SUMMARY: The final rule removes Department of Defense (DoD) regulations regarding the Retired Serviceman's Family Protection Plan (RSFPP). The part contains information for enrollment, designation of beneficiaries, and general guidance for the RSFPP program, which has been closed to new applicants since 1972. The only remaining relevant aspect of the RSFPP program is the application for benefits upon the death of a participating retiree, which is accomplished by completing the necessary forms that are published on a public website. This collection of information is tied to statute, and thus does not require an authorizing CFR part. Accordingly, this part is outdated and unnecessary and may be removed from the CFR.

DATES: This rule is effective on March 5, 2019.

FOR FURTHER INFORMATION CONTACT: Andrew Corso, (703) 693-1059.

SUPPLEMENTARY INFORMATION: This rule was published on July 18, 1969. RSFPP (authorized by 10 U.S.C. Chapter 73, Subchapter I) was terminated as the military retired pay annuity protection plan on September 21, 1972, and replaced by the Survivor Benefit Plan. All elections under RSFPP are complete. Upon the death of the Service member, a qualified annuitant can apply for the RSFPP annuity. This application is done through the completion of two forms (DD Form 2656-7 “Verification for Survivor Annuity,” and SF 1174 “Claim for Unpaid Compensation of Deceased Member of the Uniformed Services”). No other requirements are made of the annuitants. The forms are publicly available on the DFAS website (https://www.dfas.mil/retiredmilitary/survivors/Retiree-death.html). The public is provided notice in the Federal Register of changes to these forms, and given the opportunity to comment in accordance with the requirements of the Paperwork Reduction Act.

This rule is not significant under Executive Order (E.O.) 12866, “Regulatory Planning and Review;” therefore, E.O. 13771, “Reducing Regulation and Controlling Regulatory Costs” does not apply.

List of Subjects in 32 CFR Part 48

Military personnel, Pensions.

PART 48—[REMOVED]

Accordingly, by the authority of 5 U.S.C. 301, 32 CFR part 48 is removed.

Dated: February 27, 2019.
Shelly E. Finke,
Alternate OSD Federal Register Liaison Officer, DoD.

[FR Doc. 2019-03889 Filed 3-4-19; 8:45 am]

BILLING CODE 5001-06-P